DEPARTMENT OF JUSTICE

Notice of Lodging of Consent Decree Pursuant to the Clean Water Act

In accordance with the Departmental policy, 28 CFR 50.7, notice is hereby given that a proposed Consent Decree in United States of America and the State of Louisiana Department of Environmental Quality v. Acadia Woods Add. #2 Sewer Co., et al., Defendants, and Total Environmental Solutions, Inc., Intervening Defendant, Civil Action No. 6:98-0687, was lodged on October 23, 2000, with the United States District Court for the Western District of Louisiana, Lafayette-Opelousas Division. The Consent Decree addresses relief sought by the United States on behalf of the United States Environmental Protection Agency (“EPA”) under the Clean Water Act (“CWA”), 33 U.S.C. 1251, et seq., with respect to numerous, ongoing, violations of the CWA and applicable National Pollutant Discharge Elimination System (“NPDES”) permits at more than 170 package sewage treatment plants (“STPs”) in Louisiana owned and formerly operated by Johnson Properties, Inc., its numerous subsidiaries and affiliates, Glenn Johnson, and Darren K. Johnson (collectively, the “Original Defendants”).

The Consent Decree has been signed by Total Environmental Solutions, Inc., (“TESI”), a wholly-owned subsidiary of South Louisiana Electric Cooperative Association (“SLECA”). TESI is a corporation newly created by SLECA to purchase all of the assets of the corporate Original Defendants, and is not connected with the Original Defendants. On October 25, 2000, TESI filed a motion to intervene as a defendant in the above-captioned action for the purpose of placing the STPs on the compliance schedule set forth in the Consent Decree.

The Original Defendants failed to comply with a 1998 Consent Decree requiring them to bring the STPs into compliance. In March 1999, the District Court replaced the management of the corporate Original Defendants with a receiver. Also in March 1999, the corporate Original Defendants commenced a proceeding under Chapter 11 of the Bankruptcy Code, entitled In re Johnson Properties, No 99-10437, in the United States Bankruptcy Court for the Middle District of Louisiana. The Bankruptcy Court appointed the receiver as trustee. After a hearing on plan conformation, the Bankruptcy Court concluded that sale of the STPs to a qualified buyer willing to invest in repairs and capital improvements would serve to advance the objective of causing the STPs to comply with the CWA. Under the confirmed plan of reorganization, all of the STPs will be sold to TESI. In the Consent Decree, TESI agrees to a schedule for performing repairs and improvements and for reaching compliance at all of the STPs. If TESI complies with the Consent Decree, it will not be liable for penalties if the STPs exceed permitted effluent limitations during certain defined periods.

The Department of Justice will receive, for a period of thirty (30) days from the date of this publication, comments relating to the proposed Consent Decree. Comments should be addressed to the Assistant Attorney General, Environment and Natural Resources Division, United States Department of Justice, PO Box 7611, Washington, DC 20044, and should refer to United States v. Acadia Woods Add. #2 Sewer Co., DOJ Ref. No. 90-5-1-1-4375.

The proposed Consent Decree may be examined at the Office of the United States Attorney, 800 Lafayette Street, Lafayette, Louisiana 70501; the Region 6 office of the Environmental Protection Agency, 1445 Ross Avenue, Dallas, Texas 75202. A copy of the proposed Consent Decree may be obtained by mail from the Consent Decree Library, PO Box 7611, Washington, DC 20044. In requesting a copy, refer to the referenced case and enclose a check in the amount of $13.50 (25 cents per page reproduction costs), payable to the Consent Decree Library.

Walker B. Smith,
Principal Deputy Chief, Environmental Enforcement Section, Environment and Natural Resources Division.

[FR Doc. 00-28538 Filed 11-6-00; 8:45 am]

BILLING CODE 4410-15-M